DEPARTMENT OF COMMERCE

National Oceanic and Atmospheric Administration

RIN 0648-XD671

Atlantic Highly Migratory Species; Essential Fish Habitat 5-Year Review

AGENCY: National Marine Fisheries Service (NMFS), National Oceanic and Atmospheric Administration (NOAA), Commerce.

ACTION: Notice of availability; request for comments.

SUMMARY: NMFS announces the availability of the Draft Atlantic Highly Migratory Species (HMS) Essential Fish Habitat (EFH) 5-Year Review. The purpose of Atlantic HMS EFH 5-Year Review is to gather relevant new information and determine whether modifications to existing EFH descriptions and designations are warranted, in compliance with the requirements of the Magnuson-Stevens Fishery Conservation and Management Act and implementing regulations. If EFH modifications are warranted, an amendment to the 2006 Consolidated Atlantic HMS Fishery Management Plan (FMP) may be initiated.

DATES: Written comments must be received by April 6, 2015.

ADDRESSES: Electronic copies of the Draft Atlantic HMS EFH 5-Year Review may also be obtained on the internet at: http://www.nmfs.noaa.gov/sfa/hms/documents/2015_draft_efh_review.pdf.

You may submit comments on this document, identified by NOAA-NMFS-2015-0037, by any of the following methods:

• Electronic Submission: Submit all electronic public comments via the Federal e-Rulemaking Portal. Go to www.regulations.gov/#!docketDetail;D=NOAA-NMFS-2015-0037, click the “Comment Now!” icon, complete the required fields, and enter or attach your comments.

• Mail: Submit written comments to Peter Cooper, NMFS/SF1, 1315 East-West Highway, National Marine Fisheries Service, SSMC3, Silver Spring, MD 20910.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Peter Cooper by phone at (301) 427-8503.

SUPPLEMENTARY INFORMATION: The Magnuson-Stevens Fishery Conservation and Management Act (Magnuson-Stevens Act) includes provisions concerning the identification and conservation of essential fish habitat (EFH) (16 U.S.C. 1801 et seq.). EFH is defined in 50 CFR 600.10 as “those waters and substrate necessary to fish for spawning, breeding, feeding, or growth to maturity.” NMFS must identify and describe EFH, minimize to the extent practicable the adverse effects of fishing on EFH, and identify other actions to encourage the conservation and enhancement of EFH (§ 600.815(a). EFH maps are presented online in the NMFS EFH Mapper (http://www.habitat.noaa.gov/protection/efh/habitatmapper.html). Federal agencies that authorize, fund, or undertake actions that may adversely affect EFH must consult with NMFS, and NMFS must provide conservation recommendations to Federal and state agencies regarding any such actions (§ 600.815(a)(9)).

In addition to identifying and describing EFH for managed fish species, a review of EFH must be completed every 5 years, and EFH provisions must be revised or amended, as warranted, based on the best available scientific information. The EFH 5-year review should evaluate published scientific literature, unpublished scientific reports, information solicited from interested parties, and previously unavailable or inaccessible data. NMFS announced the initiation of this review and solicited information for this review from the public in a Federal Register notice on March 24, 2014 (79 FR 15959). The initial public review/submission period ended on May 23, 2014.

This document is a draft 5-year review of EFH for Atlantic HMS, which include tunas (bluefin, bigeye, albacore, yellowfin, and skipjack), oceanic sharks, swordfish, and billfishes (blue marlin, white marlin, sailfish, roundscale spearfish, and longbill spearfish). The HMS EFH 5-year review considers data available regarding Atlantic HMS and their habitats that have become available since 2009 that were not included in Final Amendment 1 to the 2006 Consolidated Atlantic HMS (June 1, 2010, 75 FR 30484); Final Environmental Impact Statement for Amendment 3 to the 2006 Consolidated HMS FMP (June 1, 2010, 75 FR 30484); and the interpretive rule that described EFH for roundscale spearfish (September 22, 2010, 75 FR 57698), which are the most recent documents that described EFH for Atlantic HMS species. Upon completion of the HMS EFH 5-year Review, NMFS will analyze the information gathered through the EFH review process and determine if subsequent revision or amendment of EFH if warranted.

Authority: 16 U.S.C. 971 et seq., and 1801 et seq.

Dated: March 2, 2015.
Alan D. Risenhoover,
Director, Office of Sustainable Fisheries, National Marine Fisheries Service.

[FR Doc. 2015-05079 Filed 3-4-15; 8:45 am]

BILLING CODE 3510-22-P